DEPARTMENT OF THE INTERIOR

Office of the Secretary

[PPWOIRADA1/PRCRFRFR6.XZ0000/PR.RIRAD1801.00.1; OMB Control Number 1093-0006]

Agency Information Collection Activities; Natural and Cultural Resource Agencies Customer Relationship Management (Volunteer.gov) and OF 301 Forms

AGENCY: Office of the Secretary, Interior.

ACTION: Notice of information collection; request for comment.

SUMMARY: In accordance with the Paperwork Reduction Act of 1995, we, the Office of the Secretary, Department of the Interior (Interior), Office of the Secretary, Department of the Interior are proposing to renew an information collection with revisions.

DATES: Interested persons are invited to submit comments on or before July 30, 2021.

ADDRESSES: Send written comments on this information collection request (ICR) to the Office of Management and Budget's Desk Officer for the Department of the Interior by email at OIRA_Submission@omb.eop.gov; or via facsimile to (202) 395-5806. Please provide a copy of your comments to Jeffrey Parrillo, 1849 C Street NW, Washington, DC 20240; or by email to jeffrey_parrillo@ios.doi.gov. Please reference OMB Control Number 1093-0006 in the subject line of your comments.

FOR FURTHER INFORMATION CONTACT: To request additional information about this ICR, contact Jeffrey Parrillo, 1849 C Street NW, Washington, DC 20240; or by email to jeffrey_parrillo@ios.doi.gov. Individuals who are hearing or speech impaired may call the Federal Relay Service at 1-800-877-8339 for TTY assistance.

SUPPLEMENTARY INFORMATION: In accordance with the Paperwork Reduction Act of 1995 and 5 CFR 1320.8(d)(1), all information collections require approval. We may not conduct or sponsor and you are not required to respond to a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

A Federal Register notice with a 60-day public comment period soliciting comments on this collection of information was published on March 5, 2021 (86 FR 12966). No comments were received.

We are again soliciting comments on the proposed ICR that is described below. We are especially interested in public comment addressing the following issues: (1) Whether the collection of information is necessary for the proper performance of the functions of the agency, including whether the information will have practical utility; (2) The accuracy of our estimate of the burden for this collection of information, including the validity of the methodology and assumptions used; (3) Ways to enhance the quality, utility, and clarity of the information to be collected; and (4) How might the agency minimize the burden of this collection of information on those who are to respond, including through the use of appropriate automated, electronic, mechanical, or other technological collection techniques or other forms of information technology (e.g., permitting electronic submission of response).

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Various laws, statutes, and regulations, to include the Public Lands Corps Act (16 U.S.C. 1721 et. seq.), the Outdoor Recreation Authority (16 U.S.C. 4601), Volunteers in the National Forests Program (16 U.S.C. 558 a-d), and the Forest Foundation Volunteers Act (16 U.S.C. 583j), authorize Federal land management agencies to work with volunteers to plan, develop, maintain, and manage projects and service activities on public lands and adjacent projects throughout the nation. We use volunteers to aid in disaster response, interpretive functions, visitor services, conservation measures and development, research and development, recreation, and or other activities as allowed by an agency's policy and regulations. Providing, collecting, and exchanging written and electronic information is required from potential and selected program participants of all ages so they can access opportunities and benefits provided by agencies guidelines. Those under the age of 18 years must have written consent from a parent or guardian to participate in volunteer activities.

In this revision, Interior will request OMB approval to assume the management and responsibility of common forms OF-301, OF-301a, and OF-301b from the Department of Agriculture—U.S. Forest Service (currently approved under OMB Control No. 0596-0080). These forms, available for prospective volunteers to complete electronically or as paper forms, serve two functions:

• Recruiting potential volunteers, and

• Formalizing agreements between current volunteers and the agencies with which they are volunteering.

The customer relationship management web-based portal, Volunteer.gov, is the agencies' response to meeting the public's request for improved digital customer services to access and apply for engagement opportunities. Under one security platform parameter, the Volunteer.gov website provides prospective and current program participants the ability to establish an account for electronic submission of program applications and to obtain status of applications and enrollments. Planned future functionality will provide information digitally on benefits and requirements, and will facilitate improved tracking of volunteer service hours. Currently, these data points are tracked manually and are accessible from agency volunteer program coordinators.

This information collection specifically minimizes the burden on the respondents. While electronic records provide a means to streamline data collection and allow participant access to track benefits and control the sharing of their data, the participating agencies will continue to provide accessible paper versions of the volunteer forms upon request and while the functionality in the web-based portal is being built.

Participating Agencies:

• Department of the Interior: All Interior offices and units, including National Park Service, U.S. Fish and Wildlife Service, Bureau of Land Management, Bureau of Reclamation, Bureau of Indian Affairs, Office of Surface Mining Reclamation and Enforcement, and U.S. Geological Survey.

• Department of Agriculture: U.S. Forest Service and Natural Resources Conservation Service.

• Department of Defense: U.S. Army Corps of Engineers.

• Department of Commerce: National Oceanic and Atmospheric Administration—Office of National Marine Sanctuaries.

Common Forms:

Forms OF-301—Volunteer Application: Individuals interested in volunteering may access the Volunteer.gov website to complete an on-line application on the Volunteer.gov website. Alternatively, they may contact any agency listed above to request a Volunteer Application (Form OF-301). We collect the following information from applicants via Form OF-301:

• Name and contact information (address, telephone number, and email address);

• Date of birth (proposed new data field);

• Preferred work categories;

• Interests;

• Citizenship status;

• Available dates and preferred location;

• Physical limitations; and

• Lodging preferences.

Information collected using this form or Volunteer.gov assists agency volunteer coordinators and other personnel in matching volunteers with agency opportunities appropriate for an applicant's skills, physical condition, and availability. We are proposing to collect date of birth to be used along with other unique identifiers for each volunteer applicant. Using date of birth will allow all participating agencies across locations to better track applicants via the Volunteer.gov website.

Forms OF-301A—Volunteer Service Agreement: We use this form to establish agreements for volunteer services between Federal agencies and individual or group volunteers, to include eligible international volunteers. We require the signature of parents or guardians for all applicants under 18 years of age. We collect the following information from volunteers via Form OF-301A:

• Name and contact information (address, telephone number, and email address);

• Date of birth (proposed new data field);

• Citizenship information; and,

• Emergency contact information.

Forms OF-301A describe the service a volunteer will perform, and asks a volunteer to confirm their understanding of the purpose of the volunteer program, their fitness and ability to perform the duties as described, and whether they consent to being photographed. We are proposing to collect date of birth to be used along with other unique identifiers for each volunteer applicant. Using date of birth will allow all participating agencies across locations to track their volunteer hours.

Forms OF-301B—Volunteer Group Sign-up: We use this form to document awareness and understanding by adult individuals in groups about the volunteer activities between a Federal agency and a partner organization with group participants, and accompanies the Form OF-301a. We collect the following information from volunteers via Form OF-301b:

• Name and contact information (address, telephone number, and email address);

• Month and year of birth (proposed new data field);

• Confirmation of understanding of the purpose of the volunteer program;

• Fitness and ability to perform the duties as described; and

• Whether they consent to being photographed

We are proposing to collect month and year of birth to be used along with other unique identifiers for each volunteer applicant. Using month and year of birth will allow all participating agencies across locations to track their volunteer hours across positions.

Each participating agency must request OMB approval of, and report their own burden associated with, the use of common forms OF-301, OF-301a, and OF-301b in order to be authorized to participate in this information collection. Interior will not assume the burden for any agencies other than its own bureaus and offices that participate in the volunteer program.

Title of Collection: Natural and Cultural Resource Agencies Customer Relationship Management (Volunteer.gov) and OF 301 Forms.

OMB Control Number: 1093-0006.

Form Number: OF-301, OF-301A, and OF-301B.

Type of Review: Revision of a currently approved collection.

Respondents/Affected Public: Individuals and private sector (cooperating associations and partner organizations) interested in volunteer opportunities.

Total Estimated Number of Annual Respondents: 561,408.

Total Estimated Number of Annual Responses: 561,408.

Estimated Completion Time per Response: Completion time varies from 5 minutes to 15 minutes, depending on the function being performed.

Total Estimated Number of Annual Burden Hours: 100,918 Hours.

Respondent's Obligation: Required to obtain or retain a benefit.

Frequency of Collection: Typically once per year.

Total Estimated Annual Nonhour Burden Cost: None.

An agency may not conduct or sponsor and a person is not required to respond to a collection of information unless it displays a currently valid OMB control number.

The authority for this action is the Paperwork Reduction Act of 1995 (44 U.S.C. 3501 et seq).

Jeffrey Parrillo,
Departmental Information Collection Clearance Officer.

[FR Doc. 2021-13900 Filed 6-29-21; 8:45 am]

BILLING CODE 4334-63-P